DEPARTMENT OF HEALTH AND HUMAN SERVICES

Office of the Secretary

[Document Identifier: HHS-OS-0990-0324-60D]

Agency Information Collection Activities; Proposed Collection; Public Comment Request

AGENCY: Office of the Secretary, Department of Health and Human Services.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for reinstatement with change of a previously-approved information collection assigned OMB control number 0990-0324, which expired on 03/31/2011. Prior to submitting the ICR to OMB, OS seeks comments from the public regarding the burden estimate, below, or any other aspect of the ICR.

DATES: Comments on the ICR must be received on or before October 14, 2016.

ADDRESSES: Submit your comments to Information.CollectionClearance@hhs.gov or by calling (202) 690-5683.

SUPPLEMENTARY INFORMATION: When submitting comments or requesting information, please include the document identifier HHS-OS-0990-0324-60D for reference.

Information Collection Request Title: The Commissioned Corps of the U.S. Public Health Service Application-Medical Forms.

Abstract: The principal purpose for collecting the information is to permit HHS to determine eligibility for appointment of applicants into the Commissioned Corps of the U.S. Public Health Service (Corps). The Corps is one of the seven Uniformed Services of the United States (37 U.S.C. 101(3)), and appointments in the Corps are made pursuant to 42 U.S.C. 204 et seq. and 42 CFR 21.58. The application consists of PHS Medical forms noted below.

Likely Respondents: Candidates/Applicants to the Commissioned Corps.

Total Estimated Annualized Burden Hours
Form No. | Number of respondents | Response per respondent | Average burden per response | Total burden hours
PHS-6355 | 1,000 | 1 | 1/60 | 1,000
PHS-6379 | 4,000 | 1 | 1/60 | 1,000
PHS-7053 | 800 | 1 | 6/60 | 80
PHS-7054 | 1,320 | 1 | 6/60 | 132
PHS-7055 | 2,800 | 1 | 7/60 | 327
PHS-7056 | 1,600 | 1 | 7/60 | 187
PHS-7057 | 600 | 1 | 5/60 | 50
PHS-7061 | 2,000 | 1 | 10/60 | 333
Total |  |  |  | 3,109

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst. Information Collection Clearance Officer.

[FR Doc. 2016-22081 Filed 9-13-16; 8:45 am]

BILLING CODE 4150-49-P